FEDERAL DEPOSIT INSURANCE CORPORATION

12 CFR Parts 303 and 337

RIN 3064-AF99

Unsafe and Unsound Banking Practices: Brokered Deposits Restrictions; Extension of Comment Period

AGENCY: Federal Deposit Insurance Corporation (FDIC).

ACTION: Notice of proposed rulemaking; extension of comment period.

SUMMARY: On August 23, 2024, the FDIC published in the Federal Register a proposed rule that would make revisions to its regulations relating to the brokered deposit restrictions that apply to less than well-capitalized insured depository institutions. The proposed rule provided for a 60-day comment period, which closes on October 22, 2024. The FDIC has determined that an extension of the comment period until November 21, 2024, is appropriate. This action will allow interested parties additional time to analyze the proposal and prepare comments.

DATES: The comment period for the document that published at 89 FR 68244 (August 23, 2024) is extended. Comments must be received on or before November 21, 2024.

ADDRESSES: You may submit comments on this document using any of the following methods:

• Agency Website: https://www.fdic.gov/resources/regulations/federal-register-publications/. Follow the instructions for submitting comments on the agency website.

• Email: comments@fdic.gov. Include RIN 3064-AF99 in the subject line of the message.

• Mail: James P. Sheesley, Assistant Executive Secretary, Attention: Comments—RIN 3064-AF99, Federal Deposit Insurance Corporation, 550 17th Street NW, Washington, DC 20429.

• Hand Delivery: Comments may be hand delivered to the guard station at the rear of the 550 17th Street NW Building (located on F Street) on business days between 7 a.m. and 5 p.m.

• Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of the notice will be retained in the public comment file and will be considered as required under all applicable laws. All comments may be accessible under the Freedom of Information Act.

FOR FURTHER INFORMATION CONTACT:

Division of Risk Management Supervision: Thomas F. Lyons, Associate Director, 202-898-6850, TLyons@fdic.gov; Karen J. Currie, Chief, 202-898-3981, KCurrie@fdic.gov; Judy E. Gross, Senior Policy Analyst, 202-898-7047, JuGross@fdic.gov.

Legal Division: Vivek Khare, Senior Counsel, 202-898-6847, VKhare@fdic.gov; Chantal Hernandez, Counsel, 202-898-7388, ChHernandez@fdic.gov; Ryan McCarthy, Counsel, 202-898-7301, RyMccarthy@fdic.gov.

SUPPLEMENTARY INFORMATION: On August 23, 2024, the FDIC published in the Federal Register ¹ a proposed rule amending the brokered deposits-related regulations implementing section 29 of the FDI Act.² The proposed rule stated that the comment period would close on October 22, 2024. However, to provide additional opportunity for the public to prepare comments to address the matters raised by the proposed rule, the FDIC is extending the comment period for the brokered deposits-related proposed rule from October 22, 2024, to November 21, 2024.

¹ 89 FR 68244.

² 12 U.S.C. 1831f.

Federal Deposit Insurance Corporation.
Dated at Washington, DC, on October 8, 2024.
James P. Sheesley,
Assistant Executive Secretary.

[FR Doc. 2024-23631 Filed 10-10-24; 8:45 am]

BILLING CODE 6714-01-P